DEPARTMENT OF HOMELAND SECURITY

Coast Guard

[CGD08-05-024]

Implementation of Sector Corpus Christi

AGENCY: Coast Guard, DHS.

ACTION: Notice of organizational change.

SUMMARY: The Coast Guard announces the stand-up of Sector Corpus Christi. Sector Corpus Christi is an internal reorganization that combines Group Corpus Christi and Marine Safety Office Corpus Christi into a single command. The Coast Guard has established a continuity of operations whereby all previous practices and procedures will remain in effect until superseded by an authorized Coast Guard official or document.

DATES: This notice is effective May 13, 2005.

ADDRESSES: Documents indicated in this preamble as being available in the docket are part of docket CGD08-05-024 and are available for inspection or copying at Commander (rpl), Eighth Coast Guard District, 500 Poydras Street, New Orleans, Louisiana 70130-3310 between 7:30 a.m. and 4:30 p.m., Monday through Friday, except Federal holidays.

FOR FURTHER INFORMATION CONTACT: Lieutenant Michael Roschel, Eighth District Planning Office at 504-589-6293.

SUPPLEMENTARY INFORMATION:

Discussion of Notice

Sector Corpus Christi is located at 8930 Ocean Drive, Corpus Christi, TX 78419-5201 and contains a single Command Center. Sector Corpus Christi is composed of a Response Department, Prevention Department, and Logistics Department. Effective May 13, 2005, all existing missions and functions performed by Group Corpus Christi and Marine Safety Office Corpus Christi will be performed by Sector Corpus Christi. Group Corpus Christi and Marine Safety Office Corpus Christi will no longer exist as organizational entities. Sector Corpus Christi is responsible for all Coast Guard Missions in the following zone: the boundary of Sector Corpus Christi Marine Inspection zone and Captain of the Port zone “Starts at the junction of the sea and the east bank of the Colorado River; thence proceeds northerly along the east bank of the Colorado River to 29°18′ N. latitude, 96°07′ W. longitude; thence northwesterly to the southeast corner of New Mexico at 32°00′ N. latitude; thence westerly along the Texas-New Mexico boundary; thence southeasterly along the Mexican border to the sea. The offshore area includes all waters and islands contained therein of the EEZ that are south and west of a line bearing 140° T from the junction of the sea and the east bank of the Colorado River to the outermost extent of the EEZ.”

Sector Corpus Christi's zone will be modified in the future upon the stand-up of adjoining sectors. Notice will be published in the Federal Register.

The Sector Corpus Christi Commander is vested with all the rights, responsibilities, duties, and authority of a Group Commander and Commanding Officer Marine Safety Office, as provided for in Coast Guard regulations, and is the successor in command to the Commanding Officers of Group Corpus Christi and Marine Safety Office Corpus Christi. The Sector Corpus Christi Commander is designated: (a) Captain of the Port (COTP) for the Corpus Christi COTP zone; (b) Federal Maritime Security Coordinator (FMSC); (c) Federal On Scene Coordinator (FOSC) for the Corpus Christi COTP zone, consistent with the National Contingency Plan; (d) Officer in Charge of Marine Inspection (OCMI) for the Corpus Christi Marine Inspection Zone; and (e) Search and Rescue Mission Coordinator (SMC). The Deputy Sector Commander is designated alternate COTP, FMSC, FOSC, SMC, and Acting OCMI. A continuity of operations order has been issued ensuring that all previous Group Corpus Christi and Marine Safety Office Corpus Christi practices and procedures will remain in effect until superseded by Commander, Sector Corpus Christi. This continuity of operations order addresses existing COTP regulations, orders, directives, and policies.

The following information is a list of updated command titles, addresses and points of contact to facilitate requests from the public and assist with entry into security or safety zones:

Name: Sector Corpus Christi.

Address: Commander, U.S. Coast Guard Sector Corpus Christi, 8930 Ocean Drive, Corpus Christi, TX 78419-5201

Contact: General Number, (361) 939-6269, Sector Commander: Captain John Korn; Deputy Sector Commander: Captain Lincoln Stroh.

Chief, Prevention Department: (361) 939-6219.

Chief, Response Department: (361) 939-6366.

Chief, Logistics Department: (361) 939-6203.

Dated: April 19, 2005.
Kevin L. Marshall,
Captain, U.S. Coast Guard, Commander, 8th Coast Guard Dist., Acting.

[FR Doc. 05-8538 Filed 4-28-05; 8:45 am]

BILLING CODE 4910-15-P